DEPARTMENT OF AGRICULTURE

Grain Inspection, Packers and Stockyards Administration

Amended Designation for Central Illinois Grain Inspection, Inc.

AGENCY: Grain Inspection, Packers and Stockyards Administration, USDA.

ACTION: Notice.

SUMMARY: Central Illinois Grain Inspection, Inc. (Central Illinois) geographical area is amended to include the area previously designated to Decatur Grain Inspection, Inc. (Decatur).

DATES: Effective Date: October 17, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the March 22, 2011 Federal Register (76 FR 15936), GIPSA announced the designation of Central Illinois to provide official services under the USGSA, effective April 1, 2011 to March 31, 2014. Subsequently, Central Illinois purchased Decatur on October 17, 2013 and asked GIPSA to amend their designation to include the additional geographic area. GIPSA reviewed the proposed amendment and determined that Central Illinois met all of the requirements specified in 7 CFR 800.196(f)(2) to amend their geographical area.

Pursuant to Section 79(f)(2) of the United States Grain Standards Act, Central Illinois designation is amended to include the additional geographic area previously designated to Decatur. Central Illinois designation for the following amended geographical area is effective October 17, 2013 to March 31, 2014.

In Illinois

Bounded on the North by State Route 18 east to U.S. Route 51; U.S. Route 51 south to State Route 17; State Route 17 east to Livingston County; the Livingston County line east to State Route 47; Bounded on the East by State Route 47 south to State Route 116; State Route 116 west to Pontiac, which intersects with a straight line running north and south through Arrowsmith to the southern McLean County line; the southern McLean County line east to the eastern DeWitt County line; the eastern DeWitt County Line; the eastern Macon County line south to Interstate 72; Interstate 72 northeast to the eastern Piatt County line; the eastern Piatt, Moultrie, and Shelby County lines; Bounded on the South by the southern Shelby County line; a straight line running along the southern Montgomery County line west to State Route 16 to a point approximately one mile northeast of Irving; and Bounded on the West by a straight line from this point northeast to Stonington on State Route 48; a straight line from Stonington northwest to Elkhart on Interstate 55; a straight line from Elkhart northeast to the west side of Beason on State Route 10; State Route 10 west to the Logan County line; the western Logan County line; the southern Tazewell County line; and Bounded on the West by the western Tazewell County line; the western Peoria County line north to Interstate 74; Interstate 74 southeast to State Route 116; State Route 116 north to State Route 26; State Route 26 north to State Route 18.

The following grain elevators are not part of this geographic area assignment and are assigned to: Champaign-Danville Grain Inspection Departments, Inc.: East Lincoln Farmers Grain Co., Lincoln, Logan County, Illinois; Okaw Cooperative, Cadwell, Moultrie County; ADM (3 elevators), Farmer City, Dewitt County; and Topflight Grain Company, Monticello, Piatt County, Illinois.

Interested persons may obtain official services by contacting this agency at the following telephone numbers:

Official agency | Headquarters location and telephone | Amended designation start | Amended designation end
Central Illinois | Bloomington, IL (309) 827-7121 Decatur, IL (217) 429-2466 | 10/17/2013 | 3/31/2014

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2014-00890 Filed 1-16-14; 8:45 am]

BILLING CODE 3410-KD-P